DEPARTMENT OF EDUCATION

Competition Announcement; Braille Training Program

AGENCY: Department of Education.

ACTION: Notice.

SUMMARY: The Department of Education (ED) announces the opportunity to apply for competitive grants for the Fiscal Year (FY) 2026 for the Braille Training Program, Assistance Listing Number (ALN) 84.235E.

DATES: Complete proposals must be submitted electronically through the Grants.gov “APPLY” function by 11:59:59 p.m. Eastern time, March 27, 2026.

FOR FURTHER INFORMATION CONTACT: Stephanie Badger, U.S. Department of Education, 400 Maryland Avenue SW, Washington, DC 20202. Telephone: (202) 219-2185. Email: stephanie.badger@ed.gov.

SUPPLEMENTARY INFORMATION: The Braille Training program (84.235E) offers financial assistance to projects that will (1) provide training in the use of braille for personnel providing vocational rehabilitation services or educational services to youth and adults who are blind; (2) develop braille training materials; (3) develop methods used to teach braille; and (4) develop activities used to promote the knowledge and use of braille and nonvisual access technology for youth and adults who are blind. The FY 2026 competition includes a priority, selection criteria, and requirements. The priority is: Braille Training Program.

Program Authority: 29 U.S.C. 773(d).

To Apply: The complete funding opportunity announcement and all information needed to apply, including the priority and program requirements, are available on ED's website at https://ncrtm.ed.gov/RSAGrantInfo.aspx and on Grants.gov at https://grants.gov/search-results-detail/361064. The application notice and instructions on grants.gov is the official document governing the grant competition.

Accessible Format: On request to the program contact person listed under FOR FURTHER INFORMATION CONTACT, individuals with disabilities can obtain this document in an accessible format.

Signing Authority

This document of the U.S. Department of Education was signed on December 29, 2025, by Rachel Oglesby, Chief of Staff, Office of the Secretary, U.S. Department of Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Tracey St. Pierre,
Director, Office of the Executive Secretariat, Office of the Secretary, U.S. Department of Education.

[FR Doc. 2025-24114 Filed 12-30-25; 8:45 am]

BILLING CODE 4000-01-P